FEDERAL COMMUNICATIONS COMMISSION

Notice of Public Information Collection(s) Being Reviewed by the Federal Communications Commission

May 2, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 9, 2000. If you anticipate that you will be submitting comments, but find it difficult to do so within the period of time allowed by this notice, you should advise the contact listed below as soon as possible.

ADDRESSES: Direct all comments to Judy Boley, Federal Communications Commission, Room 1-C804, 445 12th Street, SW., Washington, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0368.

Title: Section 97.523, Question Pools.

Form No.: N/A.

Type of Review: Revision of a currently approved collection.

Respondents: Individuals or households.

Number of Respondents: 3.

Estimated Time Per Response: 96 hours.

Frequency of Response: Recordkeeping requirement .

Total Annual Burden: 288 hours.

Total Annual Cost: N/A.

Needs and Uses: The recordkeeping requirement contained in Section 97.523 is necessary to permit question pools used in preparing amateur examinations to be maintained by Volunteer-Examiner Coordinators (VECs). These question pools must be published and made available to the public before the questions are used in an examination. The recordkeeping requirement contained in Section 97.523 is being revised to reflect a change to rule section 97.503(b) which resulted in a reduction in the number of written amateur operator examination elements from five to three as adopted in the Report and Order in WT Docket 98-143.

The information maintained by the VEC's is used to prepare amateur examinations. If this information were not maintained, the amateur examination program would deteriorate and become outdated. These examinations would not adequately measure the qualifications of the applicants.

Federal Communications Commission.
Magalie Roman Salas,
Secretary.

[FR Doc. 00-11658 Filed 5-9-00; 8:45 am]

BILLING CODE 6712-01-P